ENVIRONMENTAL PROTECTION AGENCY

[ER-FRL-6666-4]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 1, 2005 (70 FR 16815).

Draft EISs

EIS No. 20050262, ERP No. D-FHW-D40333-DC, Klingle Road Reconstruction Project, Reconstructing for Vehicular and Recreational Uses, Between Porter Street, NW., and Cortland Place, NW., Funding, Washington, DC

Summary: EPA has environmental concerns about the proposed project related to hazardous materials, specifically possible lead contamination of Klingle Creek, as well as noise impacts and the sufficient delineation of flood hazards. Rating EC2.

Final EISs

EIS No. 20050208, ERP No. F-AFS-65381-SD, Sioux Ranger District Oil and Gas Leasing Project, Implementation, Sioux Ranger District, Custer National, Harding County, SD

Summary: No formal comment letter was sent to the preparing agency.

EIS No. 20050233, ERP No. F-FHW-F40420-MI, I-75 from M-102 to M-59 Proposed Widening and Reconstruction, Transportation Improvements, Funding, NPDES Permit and U.S. Army COE Section 404 Permit, Oakland County, MI

Summary: EPA has no objections to the preferred alternative.

EIS No. 20050252, ERP No. F-NPS-J61105-CO, Colorado National Monument General Management Plan, Implementation, Mesa County, CO

Summary: EPA's major concerns have been addressed in the final EIS; therefore, EPA has no objections to the proposed action.

EIS No. 20050277, ERP No. F-FHW-H40172-MO, U.S. Route 67 Corridor Project, Improvements from south of Fredericktown to south of Neelyville, Madison, Wayne and Butler Counties, MO

Summary: EPA has no objections to the preferred alternative.

EIS No. 20050282, ERP No. F-FHW-F40424-OH, U.S. 33 Nelsonville Bypass Project, To Upgrade Existing Four-Lane Controlled Access Expressway between Haydenville in Hocking County and New Floodwood in Hocking and Athens Counties, OH

Summary: EPA has no objections to the proposed project and preferred alternative.

Dated: August 9, 2005.
Robert W. Hargrove,
Director, NEPA Compliance Division, Office of Federal Activities.

[FR Doc. 05-16035 Filed 8-11-05; 8:45 am]

BILLING CODE 6560-50-P